DEPARTMENT OF DEFENSE

Privacy Act of 1974; System of Records

AGENCY: The Joint Staff, DoD.

ACTION: Notice to add a system of records.

SUMMARY: The Joint Staff proposes to add a system of records notice to its inventory of record systems subject to the Privacy Act of 1974 (5 U.S.C. 552a), as amended.

DATES: The changes will be effective on October 27, 2003 unless comments are received that would result in a contrary determination.

ADDRESSES: Send comments to Directives and Records Division, Directives and Records Branch, Washington Headquarters Services, 1155 Defense Pentagon, Washington, DC 20301-1155.

FOR FURTHER INFORMATION CONTACT: Mr. Dan Cragg at (703) 601-4722.

SUPPLEMENTARY INFORMATION: The Joint Staff notices for systems of records subject to the Privacy Act of 1974 (5 U.S.C. 552a), as amended, have been published in the Federal Register and are available from the address above.

The proposed systems reports, as required by 5 U.S.C. 552a(r) of the Privacy Act of 1974, as amended, were submitted on September 11, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: September 17, 2003.
Patricia L. Toppings,
Alternate OSD Federal Register Liaison Officer, Department of Defense.

JS008CSD

System name:

Joint Protection Enterprise Network.

System location:

Booz-Allen Hamilton, Inc, 5201 Leesburg Pike, Suite 400, Falls Church, VA 22041-3203.

Categories of individuals covered by the system:

Any individual, civilian or military, involved in, witnessing or suspected of being involved in or reporting possible criminal activity affecting the interests, property, and/or personnel on a DoD installation.

Categories of records in the system:

Investigative information supporting known or suspected suspicious activity and incidents at DoD installations. Information includes subject's name, aliases, Social Security Number, address(es), telephone number, date of birth, driver's license number, passport number, license plate number, vehicle description, description of occupants, source of investigation, risk analysis, threat assessment, victim names, names of informants, names of law enforcement officers and investigators, and subject's group affiliations, if any.

Authority for maintenance of the system:

10 U.S.C. 113, Secretary of Defense; 10 U.S.C. 3013, Secretary of the Army; 10 U.S.C. 8013, Secretary of the Air Force; 10 U.S.C. 5013, Secretary of the Navy; Section 21, Internal Security Act of 1950 (Pub. L. 81-831); 40 U.S.C. 318, Special Police; and E.O. 9397 (SSN).

Purpose(s):

To create an integrated, cross-domain, information sharing program on force protection and threat related events that potentially impact the security of DoD installations within the United States. The program will permit timely sharing of essential information among military, law enforcement, and intelligence organizations that, as part of their mission, collect and disseminate such information as a means of identifying and combating possible threats. The program can document, refer, track, monitor, and evaluate suspected criminal activity affecting the interests, property, and/or personnel on a DoD installation.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, state, and local law enforcement, security, and intelligence agencies for the purpose of providing force protection and threat information impacting on the security of DoD installations within the United States when disclosure is authorized by statutory and/or regulatory authority and the information is required in order for the receiving agency to discharge its assigned responsibilities.

The DoD “Blanket Routine Uses” published at the beginning of the Joint Staff's compilation of systems of records notices apply to this system.

Policies and practices for storing, retrieving, accessing, retaining, and disposing of records in the system

Storage:

Electronic media and computer output products (e.g. paper)

Retrievability:

Records are retrieved by name, Social Security Number, driver's license number or passport number.

Safeguards:

Access to the computer by authorized personnel is controlled by a login and password control system. In addition, all terminals capable of accessing the system are located in secure areas. Records are accessible only to authorized persons with a valid need-to-know, who are appropriately screened, investigated and determined eligible for access. Additionally, users are subject to limitations with the system, based on their specific functions and security eligibility and access level.

Retention and disposal:

Disposition pending (until the National Archives and Records Administration approves the retention and disposition of these records, treat as permanent).

System manager(s) and address:

JPEN System Manager, Joint Staff, C4 Systems Directorate, 6000 Joint Staff Pentagon, Washington, DC 20318-6000.

Notification procedure:

Individuals seeking to determine whether this system of records contains information about themselves should address inquiries to The Joint Staff, C4 Systems Directorate, 6000 Joint Staff Pentagon, Washington, DC 20318-6000.

Requests for information must be signed and include the individual's full name, address, telephone number, Social Security Number or driver's license number, and passport number.

Record access procedure:

Individuals seeking access to records about themselves contained in this system of records should address inquiries to The Joint Staff, C4 Systems Directorate, 6000 Joint Staff Pentagon, Washington, DC 20318-6000.

Requests for information must be signed and include the individual's full name, address, telephone number, Social Security Number or driver's license number, and passport number.

Contesting record procedure:

The Joint Staff's rules for accessing records, for contesting contents and appealing initial agency determinations are published in OSD Administrative Instruction 81; Joint Administrative Instruction 2530.09; 32 CFR part 313; or may be obtained from the system manager.

Record source categories:

Suspects, witnesses, victims, and other personnel, informants, various DoD, federal, state, and local investigative agencies, and any other individual or organization, which may supply pertinent information.

Exemptions claimed for system:

None.

[FR Doc. 03-24358 Filed 9-25-03; 8:45 am]

BILLING CODE 5001-08-P